ENVIRONMENTAL PROTECTION AGENCY

40 CFR Parts 1, 21, 59, 60, 61, 62, 63, 65, 707, and 763

[FRL-9221-7]

Change of Addresses for Submission of Certain Reports; Technical Correction

AGENCY: Environmental Protection Agency (EPA).

ACTION: Final rule; technical amendment.

SUMMARY: EPA is updating and correcting the addresses for both the EPA Region IX office and the EPA Region IX State and local agencies in certain EPA regulations related to air pollution, small businesses, chemical imports and exports, and asbestos. These regulations require submittal of notifications, reports and other documents to the applicable EPA regional office and, in some case, to the applicable State or local agency. The jurisdiction of EPA Region IX covers the States of Arizona, California, Hawaii and Nevada; the territories of American Samoa and Guam; the Commonwealth of the Northern Mariana Islands; the territories of Baker Island, Howland Island, Jarvis Island, Johnston Atoll, Kingman Reef, Midway Atoll, Palmyra Atoll, and Wake Islands; and certain U.S. Government activities in the freely associated states of the Republic of the Marshall Islands, the Federated States of Micronesia, and the Republic of Palau. This technical amendment updates and corrects the addresses for submitting such information to the EPA Region IX office and the applicable State and local agency offices.

DATES: Effective Date: This rule will be effective on November 12, 2010.

FOR FURTHER INFORMATION CONTACT: Cynthia G. Allen, U.S. Environmental Protection Agency, Region IX, Rulemaking Office (Air-4), 75 Hawthorne Street, San Francisco, California 94105, (415) 947-4120, allen.cynthia@epa.gov.

SUPPLEMENTARY INFORMATION: Throughout this document, wherever “we” or “our” is used, it means the EPA.

We are updating and correcting the address for the EPA Region IX office found in the following parts of title 40 of the Code of Federal Regulations (CFR):

• Part 1 (“Statement of organization and general information”),

• Part 21 (“Small business”),

• Part 59 (“National volatile organic compound emission standards for consumer and commercial products”),

• Part 60 (“Standards of performance for new stationary sources”),

• Part 61 (“National emission standards for hazardous air pollutants”),

• Part 62 (“Approval and promulgation of State plans for designated facilities and pollutants”),

• Part 63 (“National emission standards for hazardous air pollutants for source categories”),

• Part 65 (“Consolidated Federal air rule”),

• Part 707 (“Chemical imports and exports”), and

• Part 763 (“Asbestos”).

Certain EPA regulations requiring submittal of notifications, reports and other documents to the EPA regional office must also be submitted to the appropriate authorized State and local agency. Thus, this technical amendment also updates and corrects the addresses for submitting such information to the EPA Region IX State and local agency offices.

Section 553 of the Administrative Procedure Act, 5 U.S.C. 553(b)(B), provides that, when an agency for good cause finds that notice and public procedures are impracticable, unnecessary or contrary to the public interest, the agency may issue a rule without providing notice and an opportunity for public comment. We have determined that there is good cause for making today's rule final without prior proposal and opportunity for comment because we are merely correcting EPA Region IX's address, as well as those of certain EPA Region IX States and local agencies. Thus, notice and public procedures are unnecessary. We find that this constitutes good cause under 5 U.S.C. 553(b)(B).

In accordance with 5 U.S.C. 553(d), EPA finds there is good cause for this action to become effective immediately upon publication. This is because a delayed effective date is unnecessary due to the nature of this action, which updates and corrects the addresses for the EPA Region IX office, and for certain State and local agencies. The immediate effective date for this action is authorized under 5 U.S.C. 553(d)(3), which allows an effective date less than 30 days after publication “as otherwise provided by the agency for good cause found and published with the rule.” The purpose of the 30-day waiting period prescribed in section 553(d) is to give affected parties a reasonable time to adjust their behavior and prepare before the final rule takes effect. Today's rule, however, does not create any new regulatory requirements such that affected parties would need time to prepare before the rule takes effect. Rather, today's rule simply updates and corrects the addresses for the EPA Region IX office and certain State and local air agencies. For this reason, EPA finds good cause under 5 U.S.C. 553(d)(3) for this action to become effective on the date of publication of this action.

Statutory and Executive Order Reviews

General Requirements

Under Executive Order 12866 (58 FR 51735, October 4, 1993), this action is not a “significant regulatory action” and is therefore not subject to review by the Office of Management and Budget. This rule is not subject to Executive Order 13211, “Actions Concerning Regulations That Significantly Affect Energy Supply, Distribution, or Use” (66 FR 28355), May 22, 2001) because it is not a significant regulatory action under Executive Order 12866. Because the agency has made a “good cause” finding that this action is not subject to notice-and-comment requirements under the Administrative Procedure Act or any other statute as indicated in the SUPPLEMENTARY INFORMATION section above, it is not subject to the regulatory flexibility provisions of the Regulatory Flexibility Act (5 U.S.C. 601 et seq.), or to sections 202 and 205 of the Unfunded Mandates Reform Act of 1995 (UMRA) (Pub. L. 104-4, 109 Stat. 48 (1995)). In addition, this action does not significantly or uniquely affect small governments or impose a significant intergovernmental mandate, as described in sections 203 and 204 of UMRA. This rule also does not have a substantial direct effect on one or more Indian Tribes, on the relationship between the Federal government and Indian Tribes, or on the distribution of power and responsibilities between the Federal government and Indian Tribes, as specified by Executive Order 13175 (65 FR 67249, November 9, 2000), nor will it have substantial direct effects on the States, on the relationship between the national government and the States, or on the distribution of power and responsibility among the various levels of government, as specified in Executive Order 13132 (64 FR 43255, August 10, 1999). This rule also is not subject to Executive Order 13045 (62 FR 19885, April 23, 1997), because it is not economically significant. This technical correction action does not involve technical standards; thus the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (53 FR, March 15, 1998) by examining the takings implications of the rule in accordance with the “Attorney General's Supplemental Guidelines for the Evaluation of Risk and Avoidance of Unanticipated Takings” issued under the Executive Order. This rule does not impose an information collection burden under the Paperwork Reduction Act of 1995 (44 U.S.C. 3501 et seq.).

Submission to Congress and the Comptroller General

The Congressional Review Act (CRA) (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement. 5 U.S.C. 808(2). As stated previously, EPA has made such a good cause finding, including the reasons therefore, and established an effective date of November 12, 2010. EPA will submit a report containing this rule and other required information to the U.S. Senate, the U.S. House of Representatives, and the Comptroller General of the United States prior to publication of the rule in the Federal Register. This series of corrections to the General Provisions of 40 CFR parts 1, 21, 59, 60, 61, 62, 63, 65, 707, and 763 is not a “major rule” as defined by 5 U.S.C. 804(2).

List of Subjects in 40 CFR Parts 1, 21, 59, 60, 61, 62, 63, 65, 707, and 763

Environmental protection, Air pollution control, Intergovernmental relations, Reporting and recordkeeping requirements.

Dated: October 25, 2010.
Jared Blumenfeld,
Regional Administrator, Region IX.

Chapter I, title 40 of the Code of Federal Regulations is amended as follows:

PART 1—[AMENDED]

1. The authority citation for part 1 continues to read as follows:

Authority: 5 U.S.C. 552.

Subpart (A)—Introduction

2. Section 1.7 is amended by revising paragraph (b)(9) to read as follows:

§ 1.7 Location of principal offices.

* * * * *

(b) * * *

(9) Region IX, U.S. Environmental Protection Agency, 75 Hawthorne Street, San Francisco, California 94105. (Arizona, California, Hawaii, Nevada; the territories of American Samoa and Guam; the Commonwealth of the Northern Mariana Islands; the territories of Baker Island, Howland Island, Jarvis Island, Johnston Atoll, Kingman Reef, Midway Atoll, Palmyra Atoll, and Wake Islands; and certain U.S. Government activities in the freely associated states of the Republic of the Marshall Islands, the Federated States of Micronesia, and the Republic of Palau.)

* * * * *

PART 21—[AMENDED]

3. The authority citation for part 21 continues to read as follows:

Authority: 15 U.S.C. 636, as amended by Pub. L. 92-500.

4. Section 21.3 is amended by revising entry IX in the table in paragraph (a) to read as follows:

§ 21.3 Submission of applications.

(a) * * *

Region | Address | State
* * * * * * *
IX | Regional Administrator, Region IX, EPA, 75 Hawthorne St., San Francisco, CA 94105 | Arizona, California, Hawaii, Nevada, the territories of American Samoa and Guam; the Commonwealth of the Northern Mariana Islands; the territories of Baker Island, Howland Island, Jarvis Island, Johnston Atoll, Kingman Reef, Midway Atoll, Palmyra Atoll, and Wake Islands; and certain U.S. Government activities in the freely associated states of the Republic of the Marshall Islands, the Federated States of Micronesia, and the Republic of Palau.
* * * * * * *

* * * * *

PART 59—[AMENDED]

5. The authority citation for part 59 continues to read as follows:

Authority: 42 U.S.C. 7414 and 7511b(e).

Subpart B—National Volatile Organic Compound Emission Standards for Automobile Refinish Coatings

6. Section 59.107 is amended by revising the address for EPA Region IX to read as follows:

§ 59.107 Addresses of EPA Regional Offices.

* * * * *

EPA Region IX (Arizona, California, Hawaii and Nevada; the territories of American Samoa and Guam; the Commonwealth of the Northern Mariana Islands; the territories of Baker Island, Howland Island, Jarvis Island, Johnston Atoll, Kingman Reef, Midway Atoll, Palmyra Atoll, and Wake Islands; and certain U.S. Government activities in the freely associated states of the Republic of the Marshall Islands, the Federated States of Micronesia, and the Republic of Palau), Director, Air Division, 75 Hawthorne Street, San Francisco, CA 94105.

* * * * *

Subpart C—National Volatile Organic Compound Emission Standards for Consumer Products

7. Section 59.210 is amended by revising the address for EPA Region IX to read as follows:

§ 59.210 Addresses of EPA Regional Offices.

* * * * *

EPA Region IX (Arizona, California, Hawaii and Nevada; the territories of American Samoa and Guam; the Commonwealth of the Northern Mariana Islands; the territories of Baker Island, Howland Island, Jarvis Island, Johnston Atoll, Kingman Reef, Midway Atoll, Palmyra Atoll, and Wake Islands; and certain U.S. Government activities in the freely associated states of the Republic of the Marshall Islands, the Federated States of Micronesia, and the Republic of Palau), Director, Air Division, 75 Hawthorne Street, San Francisco, CA 94105.

* * * * *

PART 60—[AMENDED]

8. The authority citation for part 60 continues to read as follows:

Authority: 42 U.S.C. 7401 et seq.

Subpart A—General Provisions

9. Section 60.4 is amended as follows:

a. By revising the entry for Region IX in paragraph (a).

b. By revising paragraph (b)(D) except the note.

c. By revising paragraph (b)(F) except the note.

d. By revising paragraph (b)(M) except the note.

e. By revising paragraph (b)(DD) except the note.

f. By revising paragraph (b)(AAA) except the note.

g. By revising paragraph (b)(DDD) except the note.

h. By revising paragraph (b)(EEE) except the note.

§ 60.4 Address.

(a) * * *

Region IX (Arizona, California, Hawaii and Nevada; the territories of American Samoa and Guam; the Commonwealth of the Northern Mariana Islands; the territories of Baker Island, Howland Island, Jarvis Island, Johnston Atoll, Kingman Reef, Midway Atoll, Palmyra Atoll, and Wake Islands; and certain U.S. Government activities in the freely associated states of the Republic of the Marshall Islands, the Federated States of Micronesia, and the Republic of Palau), Director, Air Division, U.S. Environmental Protection Agency, 75 Hawthorne Street, San Francisco, CA 94105.

* * * * *

(b) * * *

(D) Arizona:

Arizona Department of Environmental Quality, 1110 West Washington Street, Phoenix, AZ 85007.

Maricopa County Air Quality Department, 1001 North Central Avenue, Suite 900, Phoenix, AZ 85004.

Pima County Department of Environmental Quality, 33 North Stone Avenue, Suite 700, Tucson, AZ 85701.

Pinal County Air Quality Control District, 31 North Pinal Street, Building F, Florence, AZ 85132.

* * * * *

(F) California:

Amador County Air Pollution Control District, 12200-B Airport Road, Jackson, CA 95642.

Antelope Valley Air Quality Management District, 43301 Division Street, Suite 206, Lancaster, CA 93535.

Bay Area Air Quality Management District, 939 Ellis Street, San Francisco, CA 94109.

Butte County Air Quality Management District, 2525 Dominic Drive, Suite J, Chico, CA 95928.

Calaveras County Air Pollution Control District, 891 Mountain Ranch Road, San Andreas, CA 95249.

Colusa County Air Pollution Control District, 100 Sunrise Blvd., Suite A-3, Colusa, CA 95932-3246.

El Dorado County Air Quality Management District, 2850 Fairlane Court, Bldg. C, Placerville, CA 95667-4100.

Eastern Kern Air Pollution Control District, 2700 “M” Street, Suite 302, Bakersfield, CA 93301-2370.

Feather River Air Quality Management District, 1007 Live Oak Blvd., Suite B-3, Yuba City, CA 95991.

Glenn County Air Pollution Control District, 720 N. Colusa Street, P.O. Box 351, Willows, CA 95988-0351.

Great Basin Unified Air Pollution Control District, 157 Short Street, Suite 6, Bishop, CA 93514-3537.

Imperial County Air Pollution Control District, 150 South Ninth Street, El Centro, CA 92243-2801.

Lake County Air Quality Management District, 885 Lakeport Blvd., Lakeport, CA 95453-5405.

Lassen County Air Pollution Control District, 707 Nevada Street, Suite 1, Susanville, CA 96130.

Mariposa County Air Pollution Control District, P.O. Box 5, Mariposa, CA 95338.

Mendocino County Air Quality Management District, 306 E. Gobbi Street, Ukiah, CA 95482-5511.

Modoc County Air Pollution Control District, 619 North Main Street, Alturas, CA 96101.

Mojave Desert Air Quality Management District, 14306 Park Avenue, Victorville, CA 92392-2310.

Monterey Bay Unified Air Pollution Control District, 24580 Silver Cloud Court, Monterey, CA 93940.

North Coast Unified Air Quality Management District, 2300 Myrtle Avenue, Eureka, CA 95501-3327.

Northern Sierra Air Quality Management District, 200 Litton Drive, Suite 320, P.O. Box 2509, Grass Valley, CA 95945-2509.

Northern Sonoma County Air Pollution Control District, 150 Matheson Street, Healdsburg, CA 95448-4908.

Placer County Air Pollution Control District, 3091 County Center Drive, Suite 240, Auburn, CA 95603.

Sacramento Metropolitan Air Quality Management District, 777 12th Street, Third Floor, Sacramento, CA 95814-1908.

San Diego County Air Pollution Control District, 10124 Old Grove Road, San Diego, CA 92131-1649.

San Joaquin Valley Air Pollution Control District, 1990 E. Gettysburg, Fresno, CA 93726.

San Luis Obispo County Air Pollution Control District, 3433 Roberto Court, San Luis Obispo, CA 93401-7126.

Santa Barbara County Air Pollution Control District, 260 North San Antonio Road, Suite A, Santa Barbara, CA 93110-1315.

Shasta County Air Quality Management District, 1855 Placer Street, Suite 101, Redding, CA 96001-1759.

Siskiyou County Air Pollution Control District, 525 So. Foothill Drive, Yreka, CA 96097-3036.

South Coast Air Quality Management District, 21865 Copley Drive, Diamond Bar, CA 91765-4182.

Tehama County Air Pollution Control District, P.O. Box 8069 (1750 Walnut Street), Red Bluff, CA 96080-0038.

Tuolumne County Air Pollution Control District, 22365 Airport, Columbia, CA 95310.

Ventura County Air Pollution Control District, 669 County Square Drive, 2nd Floor, Ventura, CA 93003-5417.

Yolo-Solano Air Quality Management District, 1947 Galileo Court, Suite 103, Davis, CA 95616-4882.

* * * * *

(M) Hawaii:

Clean Air Branch, Hawaii Department of Health, 919 Ala Moana Blvd., Suite 203, Honolulu, HI 96814.

* * * * *

(DD) Nevada:

Nevada Division of Environmental Protection, 901 South Stewart Street, Suite 4001, Carson City, NV 89701-5249.

Clark County Department of Air Quality and Environmental Management, 500 S. Grand Central Parkway, 1st Floor, P.O. Box 555210, Las Vegas, NV 89155-5210.

Washoe County Health District, Air Quality Management Division, 1001 E. 9th Street, Building A, Suite 115A, Reno, NV 89520.

* * * * *

(AAA) Territory of Guam: Guam Environmental Protection Agency, P.O. Box 22439 GMF, Barrigada, Guam 96921.

* * * * *

(DDD) American Samoa: American Samoa Environmental Protection Agency, P.O. Box PPA, Pago Pago, American Samoa 96799.

* * * * *

(EEE) Commonwealth of the Northern Mariana Islands: CNMI Division of Environmental Quality, P.O. Box 501304, Saipan, MP 96950.

* * * * *

PART 61—[AMENDED]

10. The authority citation for part 61 continues to read as follows:

Authority: 42 U.S.C. 7401 et seq.

Subpart A—General Provisions

11. Section 61.04 is amended as follows:

a. By revising the entry for Region IX in paragraph (a).

b. By revising paragraph (b)(D) except the note.

c. By revising paragraph (b)(F) except the note.

d. By revising paragraph (b)(M) except the note.

e. By revising paragraph (b)(DD) except the note.

f. By revising paragraph (b)(AAA) except the note.

g. By revising paragraph (b)(DDD) except the note.

h. By revising paragraph (b)(EEE) except the note.

§ 61.04 Address.

(a) * * *

Region IX (Arizona, California, Hawaii and Nevada; the territories of American Samoa and Guam; the Commonwealth of the Northern Mariana Islands; the territories of Baker Island, Howland Island, Jarvis Island, Johnston Atoll, Kingman Reef, Midway Atoll, Palmyra Atoll, and Wake Islands; and certain U.S. Government activities in the freely associated states of the Republic of the Marshall Islands, the Federated States of Micronesia, and the Republic of Palau), Director, Air Division, U.S. Environmental Protection Agency, 75 Hawthorne Street, San Francisco, CA 94105.

* * * * *

(b) * * *

(D) Arizona:

Arizona Department of Environmental Quality, 1110 West Washington Street, Phoenix, AZ 85007.

Maricopa County Air Quality Department, 1001 North Central Avenue, Suite 900, Phoenix, AZ 85004.

Pima County Department of Environmental Quality, 33 North Stone Avenue, Suite 700, Tucson, AZ 85701.

Pinal County Air Quality Control District, 31 North Pinal Street, Building F, Florence, AZ 85132.

* * * * *

(F) California:

Amador County Air Pollution Control District, 12200-B Airport Road, Jackson, CA 95642.

Antelope Valley Air Quality Management District, 43301 Division Street, Suite 206, Lancaster, CA 93535.

Bay Area Air Quality Management District, 939 Ellis Street, San Francisco, CA 94109.

Butte County Air Quality Management District, 2525 Dominic Drive, Suite J, Chico, CA 95928.

Calaveras County Air Pollution Control District, 891 Mountain Ranch Road, San Andreas, CA 95249.

Colusa County Air Pollution Control District, 100 Sunrise Blvd., Suite A-3, Colusa, CA 95932-3246.

El Dorado County Air Quality Management District, 2850 Fairlane Court, Bldg. C, Placerville, CA 95667-4100.

Eastern Kern Air Pollution Control District, 2700 “M” Street, Suite 302, Bakersfield, CA 93301-2370.

Feather River Air Quality Management District, 1007 Live Oak Blvd., Suite B-3, Yuba City, CA 95991.

Glenn County Air Pollution Control District, 720 N. Colusa Street, P.O. Box 351, Willows, CA 95988-0351.

Great Basin Unified Air Pollution Control District, 157 Short Street, Suite 6, Bishop, CA 93514-3537.

Imperial County Air Pollution Control District, 150 South Ninth Street, El Centro, CA 92243-2801.

Lake County Air Quality Management District, 885 Lakeport Blvd., Lakeport, CA 95453-5405.

Lassen County Air Pollution Control District, 707 Nevada Street, Suite 1, Susanville, CA 96130.

Mariposa County Air Pollution Control District, P.O. Box 5, Mariposa, CA 95338.

Mendocino County Air Quality Management District, 306 E. Gobbi Street, Ukiah, CA 95482-5511.

Modoc County Air Pollution Control District, 619 North Main Street, Alturas, CA 96101.

Mojave Desert Air Quality Management District, 14306 Park Avenue, Victorville, CA 92392-2310.

Monterey Bay Unified Air Pollution Control District, 24580 Silver Cloud Court, Monterey, CA 93940.

North Coast Unified Air Quality Management District, 2300 Myrtle Avenue, Eureka, CA 95501-3327.

Northern Sierra Air Quality Management District, 200 Litton Drive, Suite 320, P.O. Box 2509, Grass Valley, CA 95945-2509.

Northern Sonoma County Air Pollution Control District, 150 Matheson Street, Healdsburg, CA 95448-4908.

Placer County Air Pollution Control District, 3091 County Center Drive, Suite 240, Auburn, CA 95603.

Sacramento Metropolitan Air Quality Management District, 777 12th Street, Third Floor, Sacramento, CA 95814-1908.

San Diego County Air Pollution Control District, 10124 Old Grove Road, San Diego, CA 92131-1649.

San Joaquin Valley Air Pollution Control District, 1990 E. Gettysburg, Fresno, CA 93726.

San Luis Obispo County Air Pollution Control District, 3433 Roberto Court, San Luis Obispo, CA 93401-7126.

Santa Barbara County Air Pollution Control District, 260 North San Antonio Road, Suite A, Santa Barbara, CA 93110-1315.

Shasta County Air Quality Management District, 1855 Placer Street, Suite 101, Redding, CA 96001-1759.

Siskiyou County Air Pollution Control District, 525 So. Foothill Drive, Yreka, CA 96097-3036.

South Coast Air Quality Management District, 21865 Copley Drive, Diamond Bar, CA 91765-4182.

Tehama County Air Pollution Control District, P.O. Box 8069 (1750 Walnut Street), Red Bluff, CA 96080-0038.

Tuolumne County Air Pollution Control District, 22365 Airport, Columbia, CA 95310.

Ventura County Air Pollution Control District, 669 County Square Drive, 2nd Floor, Ventura, CA 93003-5417.

Yolo-Solano Air Quality Management District, 1947 Galileo Court, Suite 103, Davis, CA 95616-4882.

* * * * *

(M) Hawaii:

Clean Air Branch, Hawaii Department of Health, 919 Ala Moana Blvd., Suite 203, Honolulu, HI 96814.

* * * * *

(DD) Nevada:

Nevada Division of Environmental Protection, 901 South Stewart Street, Suite 4001, Carson City, NV 89701-5249.

Clark County Department of Air Quality and Environmental Management, 500 S. Grand Central Parkway, 1st Floor, P.O. Box 555210, Las Vegas, NV 89155-5210.

Washoe County Health District, Air Quality Management Division, 1001 E. 9th Street, Building A, Suite 115A, Reno, NV 89520.

* * * * *

(AAA) Territory of Guam: Guam Environmental Protection Agency, P.O. Box 22439 GMF, Barrigada, Guam 96921.

* * * * *

(DDD) American Samoa: American Samoa Environmental Protection Agency, P.O. Box PPA, Pago Pago, American Samoa 96799.

* * * * *

(EEE) Commonwealth of the Northern Mariana Islands: CNMI Division of Environmental Quality, P.O. Box 501304, Saipan, MP 96950.

* * * * *

PART 62—[AMENDED]

12. The authority citation for part 62 continues to read as follows:

Authority: 42 U.S.C. 7401 et seq.

Subpart A—General Provisions

13. Section 62.10 is amended in the table by revising the address for Region IX to read as follows:

§ 62.10 Submission to Administrator.

* * * * *

Region and jurisdiction covered | Address
| * * * * * * *
IX—Arizona, California, Hawaii, Nevada, the territories of American Samoa and Guam; the Commonwealth of the Northern Mariana Islands; the territories of Baker Island, Howland Island, Jarvis Island, Johnston Atoll, Kingman Reef, Midway Atoll, Palmyra Atoll, and Wake Islands; and certain U.S. Government activities in the freely associated states of the Republic of the Marshall Islands, the Federated States of Micronesia, and the Republic of Palau | 75 Hawthorne Street, San Francisco, CA 94105.
| * * * * * * *

* * * * *

PART 63—[AMENDED]

14. The authority citation for part 63 continues to read as follows:

Authority: 42 U.S.C. 7401 et seq.

Subpart A—General Provisions

15. Section 63.13 is amended by revising the address for EPA Region IX in paragraph (a) to read as follows:

§ 63.13 Addresses of State air pollution control agencies and EPA Regional Offices.

(a) * * *

EPA Region IX (Arizona, California, Hawaii, Nevada; the territories of American Samoa and Guam; the Commonwealth of the Northern Mariana Islands; the territories of Baker Island, Howland Island, Jarvis Island, Johnston Atoll, Kingman Reef, Midway Atoll, Palmyra Atoll, and Wake Islands; and certain U.S. Government activities in the freely associated states of the Republic of the Marshall Islands, the Federated States of Micronesia, and the Republic of Palau), Director, Air Division, 75 Hawthorne Street, San Francisco, CA 94105.

* * * * *

PART 65—[AMENDED]

16. The authority citation for part 65 continues to read as follows:

Authority: 42 U.S.C. 7401 et seq.

Subpart A—General Provisions

17. Section 65.14 is amended as follows:

a. By revising the address for Region IX in paragraph (a).

b. By revising paragraph (b)(3).

c. By revising paragraph (b)(5).

d. By revising paragraph (b)(11).

e. By revising paragraph (b)(28).

§ 65.14 Addresses.

(a) * * *

Region IX (Arizona, California, Hawaii, Nevada; the territories of American Samoa and Guam; the Commonwealth of the Northern Mariana Islands; the territories of Baker Island, Howland Island, Jarvis Island, Johnston Atoll, Kingman Reef, Midway Atoll, Palmyra Atoll, and Wake Islands; and certain U.S. Government activities in the freely associated states of the Republic of the Marshall Islands, the Federated States of Micronesia, and the Republic of Palau), Director, Air Division, U.S. Environmental Protection Agency, 75 Hawthorne Street, San Francisco, CA 94105.

* * * * *

(b) * * *

(3) Arizona. Arizona Department of Environmental Quality, 1110 West Washington Street, Phoenix, AZ 85007.

* * * * *

(5) California.

(i) Amador County Air Pollution Control District, 12200-B Airport Road, Jackson, CA 95642.

(ii) Antelope Valley Air Quality Management District, 43301 Division Street, Suite 206, Lancaster, CA 93535.

(iii) Bay Area Air Quality Management District, 939 Ellis Street, San Francisco, CA 94109.

(iv) Butte County Air Quality Management District, 2525 Dominic Drive, Suite J, Chico, CA 95928.

(v) Calaveras County Air Pollution Control District, 891 Mountain Ranch Road, San Andreas, CA 95249.

(vi) Colusa County Air Pollution Control District, 100 Sunrise Blvd., Suite A-3, Colusa, CA 95932-3246.

(vii) El Dorado County Air Quality Management District, 2850 Fairlane Court, Bldg. C, Placerville, CA 95667-4100.

(viii) Eastern Kern Air Pollution Control District, 2700 “M” Street, Suite 302, Bakersfield, CA 93301-2370.

(ix) Feather River Air Quality Management District, 1007 Live Oak Blvd., Suite B-3, Yuba City, CA 95991.

(x) Glenn County Air Pollution Control District, 720 N. Colusa Street, P.O. Box 351, Willows, CA 95988-0351.

(xi) Great Basin Unified Air Pollution Control District, 157 Short Street, Suite 6, Bishop, CA 93514-3537.

(xii) Imperial County Air Pollution Control District, 150 South Ninth Street, El Centro, CA 92243-2801.

(xiii) Lake County Air Quality Management District, 885 Lakeport Blvd., Lakeport, CA 95453-5405.

(xiv) Lassen County Air Pollution Control District, 707 Nevada Street, Suite 1, Susanville, CA 96130.

(xv) Mariposa County Air Pollution Control District, P.O. Box 5, Mariposa, CA 95338.

(xvi) Mendocino County Air Quality Management District, 306 E. Gobbi Street, Ukiah, CA 95482-5511.

(xvii) Modoc County Air Pollution Control District, 619 North Main Street, Alturas, CA 96101.

(xviii) Mojave Desert Air Quality Management District, 14306 Park Avenue, Victorville, CA 92392-2310.

(xix) Monterey Bay Unified Air Pollution Control District, 24580 Silver Cloud Court, Monterey, CA 93940.

(xx) North Coast Unified Air Quality Management District, 2300 Myrtle Avenue, Eureka, CA 95501-3327.

(xxi) Northern Sierra Air Quality Management District, 200 Litton Drive, Suite 320, P.O. Box 2509, Grass Valley, CA 95945-2509.

(xxii) Northern Sonoma County Air Pollution Control District, 150 Matheson Street, Healdsburg, CA 95448-4908.

(xxiii) Placer County Air Pollution Control District, 3091 County Center Drive, Suite 240, Auburn, CA 95603.

(xxiv) Sacramento Metropolitan Air Quality Management District, 777 12th Street, Third Floor, Sacramento, CA 95814-1908.

(xxv) San Diego County Air Pollution Control District, 10124 Old Grove Road, San Diego, CA 92131-1649.

(xxvi) San Joaquin Valley Air Pollution Control District, 1990 E. Gettysburg, Fresno, CA 93726.

(xxvii) San Luis Obispo County Air Pollution Control District, 3433 Roberto Court, San Luis Obispo, CA 93401-7126.

(xxviii) Santa Barbara County Air Pollution Control District, 260 North San Antonio Road, Suite A, Santa Barbara, CA 93110-1315.

(xxix) Shasta County Air Quality Management District, 1855 Placer Street, Suite 101, Redding, CA 96001-1759.

(xxx) Siskiyou County Air Pollution Control District, 525 So. Foothill Drive, Yreka, CA 96097-3036.

(xxxi) South Coast Air Quality Management District, 21865 Copley Drive, Diamond Bar, CA 91765-4182.

(xxxii) Tehama County Air Pollution Control District, P.O. Box 8069 (1750 Walnut Street), Red Bluff, CA 96080-0038.

(xxxiii) Tuolumne County Air Pollution Control District, 22365 Airport, Columbia, CA 95310.

(xxxiv) Ventura County Air Pollution Control District, 669 County Square Drive, 2nd Floor, Ventura, CA 93003-5417.

(xxxv) Yolo-Solano Air Quality Management District, 1947 Galileo Court, Suite 103, Davis, CA 95616-4882.

* * * * *

(11) Hawaii. Clean Air Branch, Hawaii Department of Health, 919 Ala Moana Blvd., Suite 203, Honolulu, HI 96814.

* * * * *

(28) Nevada. Nevada Division of Environmental Protection, 901 South Stewart Street, Suite 4001, Carson City, NV 89701-5249.

* * * * *

PART 707—[AMENDED]

18. The authority citation for part 707 continues to read as follows:

Authority: 15 U.S.C. 2611(b) and 2612.

Subpart B—General Import Requirements and Restrictions

19. Section 707.20 is amended by revising the address for Region IX in paragraph (c)(2)(ii) to read as follows:

§ 707.20 Chemical substances import policy.

* * * * *

(c) * * *

(2) * * *

(ii) * * *

Region IX

75 Hawthorne Street, San Francisco, CA 94105 (415) 947-4402.

* * * * *

PART 763—[AMENDED]

20. The authority citation for part 763 continues to read as follows:

Authority: 15 U.S.C. 2605, 2607(c), 2643, and 2646.

21. Appendix C to Subpart E is amended by revising the address for EPA Region IX under II.C.3 to read as follows:

Appendix C to Subpart E of Part 763—Asbestos Model Accreditation Plan

* * * * *

II. * * *

C. * * *

3. * * *

EPA, Region IX, Asbestos NESHAPs Contact, Air Division (A-5), 75 Hawthorne Street, San Francisco, CA 94105, (415) 972-3989.

* * * * *

22. Appendix D to Subpart E is amended by revising the address for Region IX to read as follows:

Appendix D to Subpart E of Part 763—Transport and Disposal of Asbestos Waste

* * * * *

Region IX

Asbestos NESHAPs Contact, Air Division, USEPA, Region IX, 75 Hawthorne Street, San Francisco, CA 94105, (415) 972-3989.

* * * * *

[FR Doc. 2010-28134 Filed 11-10-10; 8:45 am]

BILLING CODE 6560-50-P